DEPARTMENT OF AGRICULTURE

Submission for OMB Review; Comment Request

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by August 31, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Office of Partnerships and Public Engagement

Title: Outreach and Assistance for Socially Disadvantaged and Veteran Farmers and Ranchers Program (also known as the 2501 Program).

OMB Control Number: 0503-NEW.

Summary of Collection: The H.R.2—Agriculture Improvement Act of 2018 (hereafter known as the 2018 Farm Bill) requires the Office of Partnerships and Public Engagement to solicit stakeholder feedback for the Socially Disadvantaged Farmers and Ranchers and Veteran Farmers and Ranchers (hereafter known as the 2501 Program). The Office of Partnerships and Public Engagement (OPPE) has established a partnership with the Southern Rural Development Council who will be conducting a survey with USDA's stakeholders including nonprofits, community-based and nongovernmental organizations, higher education institutions, and others.

Need and Use of the Information: Participants and stakeholders of USDA's 2501 Program nationwide will assist OPPE in meeting its stakeholder community needs and to increase the impact of services provided, access to, and participation in USDA's programs and services. The information collected is on a single form, illustrating a short assessment of:

1. The self-identification of partners, collaborators, and stakeholders.

2. Programmatic feedback—a short description of challenges faced during grant administration, outreach, and training efforts.

3. Participants contact information.

4. Evaluation on the effectiveness of program delivery.

If this collection is not approved, the disapproval and the 2501 program will be in noncompliance with the 2018 Farm Bill legislative requirements.

Description of Respondents: Higher education institutions, Not-for-profit institutions; Community-based and non-governmental organizations.

Number of Respondents: 250.

Frequency of Responses: Reporting: On occasion.

Total Burden Hours: 20.

Ruth Brown,
Departmental Information Collection Clearance Officer.

[FR Doc. 2022-16389 Filed 7-29-22; 8:45 am]

BILLING CODE 3412-88-P